DEPARTMENT OF ENERGY

Federal Energy Regulatory Commission

[Docket No. EL03-14-002, et al.]

City of Azusa, California, et al.; Electric Rate and Corporate Filings

February 25, 2004.

The following filings have been made with the Commission. The filings are listed in ascending order within each docket classification.

1. City of Azusa, California

[Docket Nos. EL03-14-002 and EL04-35-001]

Take notice that on February 20, 2004, the City of Azusa, California (Azusa) submitted for filing its revised Transmission Owner Tariff in compliance with the Commission's December 18, 2003, Order on Settlement and Establishing Hearing Procedures in Docket No. EL03-14-000, et al. Azusa also submitted changes to its Transmission Revenue Balancing Account Adjustment to Appendix I of its FERC Electric Tariff to reflect ISO calculations of Azusa's Net Firm Transmission Rights Revenues.

Comment Date: March 12, 2004.

2. City of Anaheim, California

[Docket Nos. EL03-15-003 and EL04-40-001]

Take notice that on February 20, 2004, the City of Anaheim, California (Anaheim) submitted for filing its revised Transmission Owner Tariff in compliance with the Commission's December 18, 2003, Order on Settlement and Establishing Hearing Procedures in Docket No. EL03-14-000, et al. Anaheim also submitted changes to its Transmission Revenue Balancing Account Adjustment and to Appendix I of its FERC Electric Tariff to reflect ISO calculations of Anaheim's Net Firm Transmission Rights Revenues.

Comment Date: March 12, 2004.

3. City of Riverside, California

[Docket Nos. EL03-20-003 and EL04-39-001]

Take notice that on February 20, 2004, the City of Riverside, California (Riverside) submitted for filing its revised Transmission Owner Tariff in compliance with the Commission's December 18, 2003, Order on Settlement and Establishing Hearing Procedures in Docket No. EL03-14-000, et al. Riverside also submitted changes to its Transmission Revenue Balancing Account Adjustment and to Appendix I of its FERC Electric Tariff to reflect ISO calculations of Riverside's Net Firm Transmission Rights Revenues.

Comment Date: March 12, 2004.

4. City of Banning, California

[Docket Nos. EL03-21-002 and EL04-42-001]

Take notice that on February 20, 2004, the City of Banning, California (Banning) submitted for filing its revised Transmission Owner Tariff in compliance with the Commission's December 18, 2003, Order on Settlement and Establishing Hearing Procedures in Docket No. EL03-14-000, et al. Banning also submitted changes to its Transmission Revenue Balancing Account Adjustment and to Appendix I of its FERC Electric Tariff to reflect ISO calculations of Banning's Net Firm Transmission Rights Revenues.

Comment Date: March 12, 2004.

5. Entergy Services, Inc.

[Docket No. ER04-207-002]

Take notice that on February 23, 2004, Entergy Services, Inc. (Entergy) on behalf of Entergy Arkansas, Inc., Entergy Gulf States, Inc., Entergy Louisiana, Inc., Entergy Mississippi, Inc., and Entergy New Orleans, Inc. (collectively, the Entergy Operating Companies) filed a compliance filing incorporating revisions to the creditworthiness provisions of Entergy's Open Access Transmission Tariff as required by the Commission's Order issued January 23, 2004 in Docket Nos. ER04-207-000 and 001, Entergy Services, Inc., 106 FERC ¶ 61,039 (2004).

Comment Date: March 15, 2004.

6. Twin Cities Power Generation

[Docket No. ER04-275-001]

Take notice that on February 17, 2004, Twin Cities Power Generation submitted a compliance filing pursuant to the Commission's Order dated January 14, 2003, in Docket No. ER04-275-000.

Comment Date: March 9, 2004.

7. Redwood Energy Marketing, LLC

[Docket No. ER04-545-001]

Take notice that on February 23, 2004, Redwood Energy Marketing, LLC (Redwood) filed an Amended Rate Schedule FERC No. 1. Amending their February 6, 2004, petition for Commission acceptance to engage in wholesale Electric power and energy transactions as a marketer; the granting of certain blanket power approvals, including the authority to sell electricity at market-based rates; and the waiver of certain Commission Regulations.

Comment Date: March 15, 2004.

8. Southwest Reserve Sharing Group

[Docket No. ER04-574-000]

Take notice that on February 23, 2004, Tucson Electric Power Company (TEP) tendered for filing on behalf of the members of the Southwest Reserve Sharing Group (SRSG) an amendment to the Southwest Reserve Sharing Group Participation Agreement expanding SRSG membership include PPL Energy Plus, LLC and Panda Gila Rener, L.P.

Comment Date: March 15, 2004.

9. PL Electric Utilities Corporation

[Docket No. ER04-575-000]

Take notice that on February 23, 2004, PPL Electric Utilities Corporation (PPL Electric) filed an Agreement between PPL Electric and Baltimore Gas and Electric Company (BG&E) that sets forth the terms and conditions governing the design, construction, installation and operation of the Yorkana-Otter Creek 230 kV transmission line.

PPL Electric states that it has served a copy of its filing on BG&E.

Comment Date: March 15, 2004.

10. Wolverine Power Supply Cooperative, Inc.

[Docket No. ER04-576-000]

Take notice that on February 23, 2004, Wolverine Power Supply Cooperative, Inc., (Wolverine) tendered a Notice of Termination of Service Agreement No. 13 under Wolverine's FERC Electric Tariff, Original Vol. No. 2. Wolverine states that the Service Agreement expired by its own terms effective December 31, 2003. Wolverine requested a cancellation effective date of December 31, 2003, for the Service Agreement.

Wolverine states that a copy of this filing has been served upon Wolverine Power Marketing Cooperative, Inc.

Comment Date: March 15, 2004.

11. Styrka Energy Fund Ltd.

[Docket No. ER04-577-000]

Take notice that on February 23, 2004, Styrka Energy Fund Ltd. tendered for filing an application for waivers and blanket approvals under various regulations of the Commission and for an order accepting Styrka Energy Fund Ltd.'s FERC Electric Rate Schedule No. 1. Styrka Energy Fund Ltd. is seeking authority to make sales of electrical capacity, energy, ancillary services, and Firm Transmission Rights, Congestion Credits, Fixed Transmission Rights, and Auction Revenue Rights (collectively, FTRs), as well as reassignments of transmission capacity, to wholesale customers at market-based rates. Styrka Energy Fund Ltd. requests waiver of the 60-day prior notice requirement to permit the Rate Schedule to be effective February 24, 2004.

Comment Date: March 15, 2004.

12. Styrka Energy Fund LLC

[Docket No. ER04-578-000]

Take notice that on February 23, 2004, Styrka Energy Fund LLC tendered for filing an application for waivers and blanket approvals under various regulations of the Commission and for an order accepting Styrka Energy Fund LLC's FERC Electric Rate Schedule No. 1. Styrka Energy Fund LLC is seeking authority to make sales of electrical capacity, energy, ancillary services, and Firm Transmission Rights, Congestion Credits, Fixed Transmission Rights, and Auction Revenue Rights (collectively, FTRs), as well as reassignments of transmission capacity, to wholesale customers at market-based rates. Styrka Energy Fund LLC requests waiver of the 60-day prior notice requirement to permit the Rate Schedule to be effective February 24, 2004.

Comment Date: March 15, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-435 Filed 3-2-04; 8:45 am]

BILLING CODE 6717-01-P